DEPARTMENT OF THE INTERIOR

[FWS-R5-ES-2012-N195; FXES11130300000-134-FF03E00000]

Endangered and Threatened Wildlife and Plants; Draft Revised Indiana Bat Summer Survey Guidelines

AGENCY: Fish and Wildlife Service, Interior.

ACTION: Notice of availability; request for comments.

SUMMARY: We, the U.S. Fish and Wildlife Service (USFWS), announce the availability of our draft revised summer survey guidelines for the Indiana bat (Myotis sodalis) for public review and comment. The Indiana bat is federally listed as endangered under the Endangered Species Act of 1973, as amended (Act). The draft guidelines were prepared by representatives of the U.S. Department of Agriculture's Forest Service, U.S. Department of Defense's Army Corps of Engineers, U.S. Department of the Interior's Geological Survey and USFWS, Kentucky Department of Fish and Wildlife Resources, New York State Department of Environmental Conservation, and the Indiana Department of Natural Resources. We request review and comment on our guidelines—along with acoustic identification software testing criteria our 2013 contingency plan—from local, State, and Federal agencies and the public.

DATES: Comments on the draft guidelines must be received on or before February 8, 2013.

ADDRESSES: Obtaining Documents: The draft survey guidelines, acoustic identification software testing criteria, and 2013 contingency plan are available at http://www.fws.gov/midwest/Endangered/mammals/inba/inbasummersurveyguidance.html. The documents are also available by request, by U.S. mail from the U.S. Fish and Wildlife Service, Ecological Services Field Office, 620 South Walker Street, Bloomington, IN 47403-2121; or by phone at 812-334-4261, x1216. Submitting Comments: If you wish to comment on the documents, you may submit your comments in writing by any one of the following methods:

• U.S. mail: U.S. Fish and Wildlife Service, 620 South Walker Street, Bloomington, IN 47403-2121;

• Hand-delivery: Field Supervisor at the above U.S. mail address;

• Email: indiana_bat@fws.gov; or

• Fax: 812-334-4273. Include “Indiana Bat Summer Survey Guidelines” in the subject line of the facsimile transmittal.

FOR FURTHER INFORMATION CONTACT: Questions or requests for additional information may be directed to any of the following: (1) Mr. Andrew King, Endangered Species Biologist, at the Bloomington, Indiana, Field Office address or phone above; (2) Ms. Robyn Niver, Endangered Species Biologist, by U.S. mail at U.S. Fish and Wildlife Service, Ecological Services Field Office, 3817 Luker Road, Cortland, NY 13045; or by phone at 607-753-9334; or (3) Mr. Mike Armstrong, Endangered Species Biologist, by U.S. mail at U.S. Fish and Wildlife Service, Ecological Services Field Office, J. C. Watts Federal Building, Room 265, 330 West Broadway, Frankfort, KY 40601-8670; or by phone at 502-229-4632.

SUPPLEMENTARY INFORMATION:

Background

The Indiana bat was originally listed as in danger of extinction under the Endangered Species Preservation Act of 1966. Summer survey guidelines (mist-netting protocols) were first developed for the species in the early 1990s and the USFWS provided revised mist-netting guidelines in our 2007 Draft Revised Recovery Plan. The USFWS recently convened a group of State and Federal agency representatives to revise existing survey guidelines. We solicited peer review through the bat working groups across the range of the Indiana bat between February and March 2012 and received comments from 57 individuals. Based upon comments received and the results of pilot testing of the survey guidelines at known Indiana bat maternity colonies in the summer of 2012, we offer the revised guidelines for public review and comment.

In addition to soliciting comments on draft survey guidelines for determining presence or probable absence of Indiana bats in the summer, we request comment on our proposed approach and criteria for testing the accuracy and suitability of available acoustic identification software programs. Only programs that pass our suitability test would be approved by the USFWS for official survey use. Our goal is to incorporate comments and finalize the draft survey guidelines and testing criteria in time for implementation in the 2013 field season. However, should no USFWS-approved software programs be concurrently available, we propose to follow an intermediary contingency plan. The draft survey guidelines, draft acoustic identification software testing criteria, and 2013 contingency plan, with instructions for commenting, are available on the Internet (see ADDRESSES).

Request for Public Comments

We invite written comments on (1) The draft survey guidelines, (2) the acoustic identification software testing criteria, and (3) the 2013 contingency plan. Substantive comments may or may not result in changes to the USFWS guidance document. Please include sufficient information with your comments to allow us to verify any scientific or commercial information you include.

While all comments we receive will be considered in developing final documents, we encourage commenters to focus on those portions of the guidelines that have been revised, particularly those topics noted above that address peer-review comments.

All comments received by the date specified in DATES will be considered in preparing final documents. Methods of submitting comments are in ADDRESSES.

Public Availability of Comments

Responses to individual commenters will not be provided; however, we will provide the comments we receive and a summary of how we addressed substantive comments in a frequently asked questions document on the Web site listed above. If you submit comments or information by email to indiana_bat@fws.gov, your entire submission—including any personal identifying information—will be posted on the Web site. If your submission is made by hard copy that includes personal identifying information, you may request at the top of your document that we withhold this information from public review. However, we cannot guarantee that we will be able to do so. We will post all hard copy and email submissions on the Web site listed above in ADDRESSES.

Comments and materials we receive will be available on our Web site; however, individuals without internet access may request an appointment to inspect the comments during normal business hours at our office in Bloomington, Indiana (see ADDRESSES).

Authority

The authority for this action is the Endangered Species Act of 1973, as amended (16 U.S.C. 1531 et seq.).

Dated: January 2, 2013.
Lynn M. Lewis,
Assistant Regional Director, Ecological Services, Midwest Region.

[FR Doc. 2013-00213 Filed 1-8-13; 8:45 am]

BILLING CODE P